DEPARTMENT OF COMMERCE

International Trade Administration

[C-201-866, C-549-855]

Certain Chassis and Subassemblies Thereof From Mexico and Thailand: Postponement of Preliminary Determinations in the Countervailing Duty Investigations

AGENCY: Enforcement and Compliance, International Trade Administration, Department of Commerce.

DATES: Applicable May 5, 2025.

FOR FURTHER INFORMATION CONTACT: Jose Rivera (Mexico) or Ian Riggs (Thailand); AD/CVD Operations, Enforcement and Compliance, International Trade Administration, U.S. Department of Commerce, 1401 Constitution Avenue NW, Washington, DC 20230; telephone: (202) 482-0842 and (202) 482-3810, respectively.

SUPPLEMENTARY INFORMATION:

Background

On March 18, 2025, the U.S. Department of Commerce (Commerce) initiated countervailing duty (CVD) investigations of imports of certain chassis and subassemblies thereof (chassis) from Mexico and Thailand.¹ Currently, the preliminary determinations in these CVD investigations are due no later than May 22, 2025.

¹ See Certain Chassis and Subassemblies Thereof from Mexico and Thailand: Initiation of Countervailing Duty Investigations, 90 FR 13452 (March 24, 2025).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On April 22, 2025, the petitioner ² submitted a timely request that Commerce postpone the preliminary determinations in these CVD investigations.³ The petitioner stated that it was requesting postponement of the preliminary CVD determinations so that Commerce has sufficient time to review responses from the respondents, issue supplemental questionnaires, and consider deficiency comments prior to the issuance of the preliminary determinations.⁴

² The petitioner is the U.S. Chassis Manufacturers Coalition.

³ See Petitioner's Letter, “Request for Postponement of the Preliminary Determinations,” dated April 22, 2025.

⁴ Id.

In accordance with 19 CFR 351.205(e), the petitioner has stated the reasons for requesting a postponement of the preliminary determinations, and Commerce finds no compelling reason to deny the request. Therefore, in accordance with section 703(c)(1)(A) of the Act, Commerce is postponing the deadline for the preliminary determinations to no later than 130 days after the date on which these investigations were initiated, i.e., July 28, 2025.⁵ Pursuant to section 705(a)(1) of the Act and 19 CFR 351.210(b)(1), the deadline for the final determinations of these investigations will continue to be 75 days after the date of the preliminary determinations.

⁵ Postponing the preliminary determination to 130 days after initiation would place the deadline on Saturday, July 26, 2025. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: April 25, 2025.
Abdelali Elouaradia,
Deputy Assistant Secretary for Enforcement and Compliance.

[FR Doc. 2025-07679 Filed 5-2-25; 8:45 am]

BILLING CODE 3510-DS-P